DEPARTMENT OF ENERGY

Federal Energy Regulatory Commission

[Docket No. EG01-335-000, et al.]

Astoria Energy LLC, et al., Electric Rate and Corporate Regulation Filings

September 27, 2001.

Take notice that the following filings have been made with the Commission:

1. Astoria Energy LLC

[Docket No. EG01-335-000]

Take notice that on September 24, 2001, Astoria Energy LLC (Astoria Energy) tendered for filing with the Federal Energy Regulatory Commission (Commission) an application for determination of exempt wholesale generator status pursuant to Part 365 of the Commission's regulations.

Astoria Energy is a limited liability company organized and existing under the laws of the State of Delaware, having its principal place of business at 85 Main Street, Concord, Massachusetts, 01742. Astoria Energy is a subsidiary of SCS Energy LLC (SCS). The members of SCS do not have any ownership interest in a franchised electric utility. Astoria Energy has filed an application with the New York State Board on Electric Generation Siting and the Environment to build and operate a nominal 1,000 MW combined cycle electric generation facility that will be located in Queens, New York. Astoria Energy is engaged directly and exclusively in the business of owning or operating, or both owning and operating, all or part of one or more eligible facilities and selling electric energy at wholesale.

Comment date: October 18, 2001, in accordance with Standard Paragraph E at the end of this notice. The Commission will limit its consideration of comments to those that concern the adequacy or accuracy of the application.

2. City of Vernon, California

[Docket No. EL00-105-005]

Take notice that on September 24, 2000, the City of Vernon, California (Vernon) tendered for filing, in compliance with the Commission's September 14, 2001 “Order Accepting Compliance Filing, As Modified”, 96 FERC ¶ 61,312, a revised Transmission Owner Tariff Sheet No. 19, making one “ministerial” correction to Section 12, thereof.

Vernon states that copies of this filing have been served on each person designated on the official service list compiled by the Secretary in these proceedings.

Comment date: October 24, 2001, in accordance with Standard Paragraph E at the end of this notice.

3. The Montana Power Company

[Docket No. EL01-117-000]

Take notice that on September 24, 2001, Montana Power Company (Montana Power) filed a Petition for Declaratory Order in which it asked the FERC to issue an order declaring that (a) a customer who takes service pursuant to an unexecuted Network Integration Transmission Service Agreement is obligated to pay for such service as long as the service agreement remains on file at the FERC, and (b) billing demands for network integration transmission service under Montana Power's Open Access Transmission Service should be based on a rolling 12-month average of the customer's demands. Montana Power stated that copies of the Petition for Declaratory Order have been served upon Montana Resources and upon other network integration transmission service customers that may be similarly situated.

Comment date: October 24, 2001, in accordance with Standard Paragraph E at the end of this notice.

4. CP&L Holdings, Inc.,

[Docket Nos. ER01-1520-003 and ER01-2966-001]

Take notice that on September 19, 2001, Progress Energy, Inc., on behalf of Carolina Power & Light Company (CP&L) and Florida Power Corporation (FPC), tendered for filing with the Federal Energy Regulatory Commission (Commission), a letter in these dockets requesting that the Commission include specific language in its order accepting for filing the August 23, 2001 revisions to their System Integration Agreement. Progress Energy states that the request is being made in compliance with an order of the North Carolina Utilities Commission in connection with the merger of the parent companies of CP&L and FPC.

Copies of the filing were served upon the Commission's official service list and the North Carolina Utilities Commission, the South Carolina Public Service Commission and the Florida Public Service Commission.

Comment date: October 9, 2001, in accordance with Standard Paragraph E at the end of this notice.

5. Exelon Generation Company, LLC

[Docket No. ER01-3104-000]

Take notice that on September 25, 2001, Exelon Generation Company, LLC (Exelon Generation), submitted for filing with the Federal Energy Regulatory Commission (FERC or Commission), a power sales service agreement between Exelon Generation and Reliant Energy Services, Inc., under Exelon Generation's wholesale power sales tariff, FERC Electric Tariff Original Volume No. 2.

Comment date: October 16, 2001, in accordance with Standard Paragraph E at the end of this notice.

6. Western Resources, Inc.

[Docket No. ER01-3105-000]

Take notice that on September 25, 2001, Western Resources, Inc. (WR), tendered for filing with the Federal Energy Regulatory Commission (Commission), a request for acceptance of three additional delivery points between WR and Kansas City Power & Light (KCPL), pursuant to an Interchange Agreement signed between the parties and made effective on July 26, 1965. WR states that the purpose of this filing is to ask for acceptance of the Spring Hill No. 2, Lake Quivira and Mur-Len delivery points. This filing is proposed to become effective September 26, 2001.

Copies of the filing were served upon KCPL and the Kansas Corporation Commission.

Comment date: October 16, 2001, in accordance with Standard Paragraph E at the end of this notice.

7. Virginia Electric and Power Company

[Docket No. ER01-3106-000]

Take notice that on September 25, 2001, Virginia Electric and Power Company (Dominion Virginia Power or the Company) tendered for filing with the Federal Energy Regulatory Commission (Commission), a Service Agreement for Long Term Firm Point-to-Point Transmission Service by Virginia Electric and Power Company to Exelon Generation Company, LLC [OASIS #170029] designated as Service Agreement No. 339 under the Company's FERC Electric Tariff, Second Revised Volume No. 5; and a Service Agreement for Long Term Firm Point-to-Point Transmission Service by Virginia Electric and Power Company to Exelon Generation Company, LLC [OASIS #170030] designated as Service Agreement No. 340 under the Company's FERC Electric Tariff, Second Revised Volume No. 5.

The foregoing Service Agreements are tendered for filing under the Open Access Transmission Tariff to Eligible Purchasers effective June 7, 2000. Under the tendered Service Agreement, Dominion Virginia Power will provide long term firm point-to-point service to the Transmission Customer under the rates, terms and conditions of the Open Access Transmission Tariff. Dominion Virginia Power requests an effective date of January 1, 2002, the date requested by the customer.

Copies of the filing were served upon Exelon Generation Company, LLC, the Virginia State Corporation Commission, and the North Carolina Utilities Commission.

Comment date: October 16, 2001, in accordance with Standard Paragraph E at the end of this notice.

8. Tucson Electric Power Company

[Docket No. ER01-3108-000]

Take notice that on September 25, 2001, Tucson Electric Power Company tendered for filing with the Federal Energy Regulatory Commission (Commission), a Service Agreement for Firm Point-to-Point Transmission Service by and between Tucson Electric Power Company and Tucson Electric Power Company Marketing Department.

Comment date: October 16, 2001, in accordance with Standard Paragraph E at the end of this notice.

9. Renaissance Power, L.L.C.

[Docket No. ER01-3109-000]

Take notice that on September 25, 2001, Renaissance Power, L.L.C. (Renaissance) tendered for filing with the Federal Energy Regulatory Commission (FERC or Commission), pursuant to Rule 205, 18 CFR Part 385.205, a petition for waivers and blanket approvals under various regulations of the Commission and for an order accepting its FERC Electric Tariff No. 1 to become effective as of the date specified by the Commission.

Renaissance intends to sell electric power at wholesale rates, terms, and conditions to be mutually agreed to with the purchasing party. Renaissance's tariff provides for the sale of electric energy and capacity at agreed prices.

Comment date: October 16, 2001, in accordance with Standard Paragraph E at the end of this notice.

10. Tucson Electric Power Company

[Docket No. ER01-3111-000]

Take notice that on September 25, 2001, Tucson Electric Power Company tendered for filing with the Federal Energy Regulatory Commission (Commission), a Power Sale Agreement by and between Tucson Electric Power Company and Navopache Electric Cooperative Inc.

Comment date: October 16, 2001, in accordance with Standard Paragraph E at the end of this notice.

11. New York Independent System Operator, Inc.

[Docket No. ER01-3112-000]

Take notice that on September 25, 2001, the New York Independent System Operator, Inc. (NYISO) filed with the Federal Energy Regulatory Commission (Commission), revisions to its Market Administration and Control Area Services Tariff (Services Tariff) and its Open-Access Transmission Tariff (OATT) to make permanent two temporary market rules pertaining to External Transactions that were initially implemented as “Extraordinary Corrective Actions,” and to introduce several new enhancements to its external transaction scheduling processes. The NYISO has requested a waiver of the usual sixty day notice period so that this filing can become effective on October 30, 2001.

The NYISO has served a copy of the filing on all parties that have executed Service Agreements under the NYISO's Open-Access Transmission Tariff or Services Tariff, to the New York State Public Service Commission and to the electric utility regulatory agencies in New Jersey and Pennsylvania.

Comment date: October 16, 2001, in accordance with Standard Paragraph E at the end of this notice.

12. Mirant Americas Energy Marketing, LP, Mirant Bowline, LLC, Mirant California, LLC, Mirant Canal, LLC, Mirant Chalk Point, LLC, Mirant Delta, LLC, Mirant Kendall, LLC, Mirant Lovett, LLC, Mirant Mid-Atlantic, LLC, Mirant Neenah, LLC, Mirant New England, LLC, Mirant NY-Gen, LLC, Mirant Peaker, LLC, Mirant Potomac River, LLC, Mirant Potrero, LLC, Mirant Zeeland, LLC, State Line Energy, L.L.C.

[Docket No. ER01-3110-000]

Take notice that on September 24, 2001, the captioned parties (the Mirant Parties) submitted for filing with the Federal Energy Regulatory Commission (Commission), revised tariff sheets which would modify the Mirant Parties' existing Market Rate Tariffs: (1) to remove current restrictions on the Mirant Parties to engage in certain transactions with their former affiliates, effective April 2, 2001, and (2) to correct a clerical error in the market-based rate tariffs of three of the Mirant Parties. Further, the Mirant Parties request authority to terminate their respective Codes of Conduct.

Comment date: October 15, 2001, in accordance with Standard Paragraph E at the end of this notice.

13. Virginia Electric and Power Company

[Docket No. ER01-3107-000]

Take notice that on September 25, 2001, Virginia Electric and Power Company (Dominion Virginia Power or the Company) tendered for filing with the Federal Energy Regulatory Commission (Commission), the following Service Agreements with Sempra Energy Trading Corporation (Transmission Customer), Fourth Amended Service Agreement for Firm Point-to-Point Transmission Service designated Sixth Revised Service Agreement No. 253 under the Company's FERC Electric Tariff, Second Revised Volume No. 5; and Fourth Amended Service Agreement for Non-Firm Point-to-Point Transmission Service designated Sixth Revised Service Agreement No. 49 under the Company's FERC Electric Tariff, Second Revised Volume No. 5.

The foregoing Service Agreements are tendered for filing under the Company's Open Access Transmission Tariff to Eligible Purchasers effective June 7, 2000. Under the tendered Service Agreements, Dominion Virginia Power will provide point-to-point service to the Transmission Customer under the rates, terms and conditions of the Open Access Transmission Tariff. The Company requests an effective date of August 29, 2001, the date the customer first requested service.

Copies of the filing were served upon Sempra Energy Trading Corporation, the Virginia State Corporation Commission, and the North Carolina Utilities Commission.

Comment date: October 16, 2001, in accordance with Standard Paragraph E at the end of this notice.

14. Allegheny Energy

[Docket No. ER01-2160-001]

Take notice that on September 24, 2001, the APS Operating Companies (Allegheny Power) tendered for filing with the Federal Energy Regulatory Commission (Commission) , a First Revised Service Agreement No. 10 pursuant to Commission's Order No. 614.

Comment date: October 15, 2001, in accordance with Standard Paragraph E at the end of this notice.

15. Camden Cogen, L.P.

[Docket No. ER01-2756-001]

Take notice that on September 24, 2001, Camden Cogen, L.P. (Camden) tender for filing with the Federal Energy Regulatory Commission (Commission), a revised tariff with provisions for reassignment of transmission capacity pursuant to Commission Order issued September 13, 2001.

Comment date: October 15, 2001, in accordance with Standard Paragraph E at the end of this notice.

16. WPS Resources Operating Companies

[Docket No. ER01-2924-001]

Take notice that on September 26, 2001, WPS Resources Operating Companies (WPSR) tendered for filing with the Federal Energy Regulatory Commission (Commission), a modified version of its interconnection agreement and service agreement that it filed August 24, 2001 on behalf of Wisconsin Public Service Corporation (WPSC) in the above-referenced docket for service to Ag Environmental Solutions, LLC (AES). WPSR makes this modified filing only for the purpose of requesting a September 12, 2001 effective date for both agreements, and respectfully requests waiver of the Commission's notice requirements.

Copies of the filing were served upon AES, Wisconsin Electric Power Company and the Public Service Commission of Wisconsin.

Comment date: October 17, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-24803 Filed 10-3-01; 8:45 am]

BILLING CODE 6717-01-P